DEPARTMENT OF TRANSPORTATION

Federal Aviation Administration

14 CFR Part 39

[Docket No. FAA-2015-2461; Directorate Identifier 2013-NM-202-AD]

RIN 2120-AA64

Airworthiness Directives; Airbus Airplanes

AGENCY: Federal Aviation Administration (FAA), DOT.

ACTION: Notice of proposed rulemaking (NPRM).

SUMMARY: We propose to supersede Airworthiness Directive (AD) 2009-18-15 for all Airbus Model A300, A310, and A300 B4-600, B4-600R, and F4-600R series airplanes, and Model A300 C4-605R Variant F airplanes (collectively called Model A300-600 series airplanes). AD 2009-18-15 currently requires revising the Airworthiness Limitations section (ALS) of the Instructions for Continued Airworthiness (ICA) to require additional life limits and/or replacements for certain main landing gear and nose landing gear components. Since we issued AD 2009-18-15, we have determined that existing maintenance requirements and airworthiness limitations are inadequate to ensure the structural integrity of the airplane. This proposed AD would require revising the maintenance or inspection program to incorporate new maintenance requirements and airworthiness limitations. We are proposing this AD to prevent failure of certain system components, which could result in reduced structural integrity of the airplane.

DATES: We must receive comments on this proposed AD by August 28, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-2461; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-2461; Directorate Identifier 2013-NM-202-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 24, 2009, we issued AD 2009-18-15, Amendment 39-16011 (74 FR 48143, September 22, 2009). AD 2009-18-15 requires actions intended to address an unsafe condition for all Airbus Model A300, A310, and A300 B4-600, B4-600R, and F4-600R series airplanes, and Model A300 C4-605R Variant F airplanes (collectively called Model A300-600 series airplanes).

Since we issued AD 2009-18-15, Amendment 39-16011 (74 FR 48143, September 22, 2009), we have determined that more restrictive maintenance requirements and airworthiness limitations are necessary.

The European Aviation Safety Agency (EASA), which is the Technical Agent for the Member States of the European Union, has issued EASA Airworthiness Directive 2013-0248, dated October 14, 2013 (referred to after this as the Mandatory Continuing Airworthiness Information, or “the MCAI”), to correct an unsafe condition for all Model A300, A310, and A300-600 series airplanes. The MCAI states:

The airworthiness limitations for Airbus aeroplanes are currently published in Airworthiness Limitations Section (ALS) documents.

The mandatory instructions and airworthiness limitations applicable to the Aging Systems Maintenance (ASM) are specified in Airbus A310 or A300-600 ALS Part 4 documents, which are approved by the European Aviation Safety Agency (EASA). EASA AD 2007-0092 [http://ad.easa.europa.eu/blob/easa_ad_2007_0092.pdf/AD_2007-0092] [which corresponds to FAA AD 2009-06-06, Amendment 39-15842 (74 FR 12228, March 24, 2009)] was issued to require compliance to the requirements as specified in these documents.

The revision 02 of Airbus A310 and Airbus A300-600 ALS Part 4 documents introduces more restrictive maintenance requirements and/or airworthiness limitations. Failure to comply with the instructions of ALS Part 4 could result in an unsafe condition [reduced structural integrity of the airplane.]

For the reasons described above, this new [EASA] AD retains the requirements of EASA AD 2007-0092, which is superseded, and requires the implementation of the new or more restrictive maintenance requirements and/or airworthiness limitations as specified in Airbus A310 ALS Part 4, Revision 02, or Airbus A300-600 ALS Part 4, Revision 02, as applicable to aeroplane type/model.

You may examine the MCAI in the AD docket on the Internet at http://www.regulations.gov by searching for and locating Docket No. FAA-2015-2461.

Related Service Information Under 1 CFR Part 51

Airbus has issued the following service information, which describes procedures for revising the maintenance or inspection program to incorporate new maintenance requirements and airworthiness limitations.

• For Model A300 series airplanes: “Sub-part 1-2: Life Limits,” and “Sub-part 1-3: Demonstrated fatigue lives” of Part 1, “Safe Life Airworthiness Limitation Items,” Revision 01, dated September 5, 2013, of the Airbus Model A300 Airworthiness Limitations Section.

• For Model A300 B4-600, B4-600R, and F4-600R series airplanes, and Model A300 C4-605R Variant F airplanes (collectively called Model A300-600 series airplanes): “Sub-part 1-2: Life Limits,” and “Sub-part 1-3: Demonstrated fatigue lives” of Part 1, “Safe Life Airworthiness Limitation Items,” Revision 01, dated September 5, 2013, of the Airbus Model A300-600 Airworthiness Limitations Section.

• For Model A310 series airplanes: “Sub-part 1-2: Life Limits,” and “Sub-part 1-3: Demonstrated fatigue lives” of Part 1, “Safe Life Airworthiness Limitation Items,” Revision 01, dated September 5, 2013, of the Airbus Model A310 Airworthiness Limitations Section.

This service information is reasonably available because the interested parties have access to it through their normal course of business, or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 177 airplanes of U.S. registry.

The ALS revision required by AD 2009-18-15, Amendment 39-16011 (74 FR 48143, September 22, 2009), takes about 1 work-hour per product, at an average labor rate of $85 per work-hour. Based on these figures, the estimated cost of the actions that were required by AD 2009-18-15 is $85 per product.

We also estimate that it would take about 1 work-hour per product to comply with the new ALS revision of this proposed AD. The average labor rate is $85 per work-hour. Based on these figures, we estimate the cost of this proposed AD on U.S. operators to be $15,045, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive AD 2009-18-15, Amendment 39-16011 (74 FR 48143, September 22, 2009), and adding the following new AD:

Airbus: Docket No. FAA-2015-2461; Directorate Identifier 2013-NM-202-AD.

(a) Comments Due Date

We must receive comments by August 28, 2015.

(b) Affected ADs

This AD replaces AD 2009-18-15, Amendment 39-16011 (74 FR 48143, September 22, 2009).

(c) Applicability

This AD applies to Airbus Model A300 B2-1A, B2-1C, B2K-3C, B2-203, B4-2C, B4-103, and B4-203 airplanes; Model A300 B4-601, B4-603, B4-620, and B4-622 airplanes; Model A300 B4-605R and B4-622R airplanes; Model A300 F4-605R and F4-622R, and A300 C4-605R Variant F airplanes; and Model A310-203, -204, -221, -222, -304, -322, -324, and -325 airplanes; certificated in any category, all manufacturer serial numbers.

(d) Subject

Air Transport Association (ATA) of America 32, Landing Gear.

(e) Reason

This AD was prompted by a determination that existing maintenance requirements and airworthiness limitations are inadequate to ensure the structural integrity of the airplane. We are issuing this AD to prevent failure of certain system components, which could result in reduced structural integrity of the airplane.

(f) Compliance

Comply with this AD within the compliance times specified, unless already done.

(g) Retained Revision of Airworthiness Limitation Section (ALS)

This paragraph restates the requirements of paragraph (h) of AD 2009-18-15, Amendment 39-16011 (74 FR 48143, September 22, 2009). For Model A300, A310, and A300-600 series airplanes: Within 3 months after October 27, 2009 (the effective date of AD 2009-18-15), revise the ALS of the instructions for continued airworthiness (ICA) to incorporate the applicable document listed in paragraph (g)(1), (g)(2), or (g)(3) of this AD. Accomplishing the actions specified in the applicable document satisfies the requirements of paragraph A. of AD 84-02-04, Amendment 39-4795.

(1) For Model A300 series airplanes: Incorporate the applicable document listed in paragraph (g)(1)(i) or (g)(1)(ii) of this AD.

(i) Section 05-10-00, Revision 28, dated February 27, 1998, of Chapter 05, “Service Life Limits and Maintenance Checks,” of the Airbus A300 Aircraft Maintenance Manual, except that the parts listed in table 1 to paragraph (g) of this AD are subject to the life limits defined in the document listed in paragraph (g)(1)(ii) of this AD.

(ii) “Sub-part 1-2: Life Limits,” and “Sub-part 1-3: Demonstrated Fatigue Lives” of Part 1, “Safe Life Airworthiness Limitation Items,” dated September 6, 2007, of the Airbus A300 ALS.

Table 1 to Paragraph (g) of This AD—Parts Subject to the Life Limits Specified in the Document Identified in Paragraph (g)(1)(ii) of This AD
Part No. (P/N) | Part name
P/N C61643-2, P/N C61643-4, P/N C61643-5 | Main landing gear (MLG) shock absorber end fitting.
P/N A32210001205xx | Nose landing gear (NLG) pintle pin.
P/N C62037-1 | NLG shock absorber bottom.
P/N 196-0328-501 | Cross beam (Pratt & Whitney forward engine mount).

(2) For Model A310 series airplanes: Incorporate “Sub-part 1-2: Life Limits,” and “Sub-part 1-3: Demonstrated Fatigue Lives” of Part 1, “Safe Life Airworthiness Limitation Items,” dated December 21, 2006, of the Airbus A310 ALS.

(3) For Model A300 B4-600, B4-600R, and F4-600R series airplanes, and Model A300 C4-605R Variant F airplanes (collectively called Model A300-600 series airplanes): Incorporate “Sub-part 1-2: Life Limits,” and “Sub-part 1-3: Demonstrated Fatigue Lives” of Part 1, “Safe Life Airworthiness Limitation Items,” dated December 21, 2006, of the Airbus A300-600 ALS.

(h) Retained Initial Compliance Times and Repetitive Inspections

This paragraph restates the requirements of paragraph (i) of AD 2009-18-15, Amendment 39-16011 (74 FR 48143, September 22, 2009). Do the replacement at the applicable time specified in paragraph (h)(1) or (h)(2) of this AD, except as provided by paragraph (i) of this AD. The replacement must be done thereafter within the interval specified in the applicable document identified in paragraph (g)(1), (g)(2), or (g)(3) of this AD.

(1) For any life limitation/task that has been complied with before October 27, 2009 (the effective date of AD 2009-18-15, Amendment 39-16011), in accordance with the applicable document listed in paragraph (g)(1), (g)(2), or (g)(3) of this AD, or in accordance with paragraph (g) of AD 2009-18-15, use the last accomplishment of each limitation/task as a starting point for accomplishing each corresponding limitation/task required by this AD.

(2) For any life limitation/task that has not been complied with before October 27, 2009 (the effective date of AD 2009-18-15, Amendment 39-16011), in accordance with the applicable document listed in paragraphs (g)(1), (g)(2), and (g)(3) of this AD, or in accordance with paragraph (g) of AD 2009-18-15, the initial compliance time starts from the date of initial entry into service as defined in the applicable document.

(i) Retained Special Compliance Times

This paragraph restates the requirements of paragraph (j) of AD 2009-18-15, Amendment 39-16011 (74 FR 48143, September 22, 2009). For any airplane on which the history of accumulated landings is partial or unknown, or where the history of application details (airplane type, model, weight variant, etc.) is partial or unknown, with or without using the information in Airbus Service Information Letter 32-118, Revision 02, dated October 24, 2007: Parts listed in figure 1 to paragraph (i) of this AD must be replaced at the associated compliance time. The replacement must be done thereafter at the interval specified in the applicable document(s) specified in paragraphs (g)(1), (g)(2), and (g)(3) of this AD.

Note 1 to paragraph (i) of this AD: Airbus Service Information Letter 32-118, Revision 02, dated October 24, 2007, provides operators with guidance on the means to assign a conservative calculated life to parts whose history of accumulated landings is partial or unknown; and to select the limitations applicable to parts whose history of application details (aircraft type, aircraft model, weight variant, etc.) is partial or unknown.

Figure 1 to Paragraph (i) of This AD—Special Compliance Times
Designation | Aircraft type applicability: A300: X | Aircraft type applicability: A310: X | Aircraft type applicability: A300-600: X | Aircraft type applicability: P/N | Start date | Compliance time (whichever occurs first after the “start date”): Landings | Compliance time (whichever occurs first after the “start date”): Calendar time
MAIN LANDING GEAR
| A32140032200xx | X |  |  | December 13, 2007 | 13,500 | 9 years.
| A32140056200xx | X |  |  | December 13, 2007 | 13,500 | 9 years.
| A32140056202xx | X |  |  | December 13, 2007 | 13,500 | 9 years.
Aft pintle pin | A32140057200xx | X |  |  | December 13, 2007 | 13,500 | 9 years.
| A32140057202xx | X |  | X | December 13, 2007 | 13,500 | 9 years.
| A32140062000xx | X |  |  | December 13, 2007 | 13,500 | 9 years.
| A32140063000xx | X |  | X | December 13, 2007 | 13,500 | 9 years.
| A32140036200xx | X |  |  | December 13, 2007 | 13,500 | 9 years.
| A32140036202xx | X |  |  | December 13, 2007 | 13,500 | 9 years.
| A32140036204xx | X |  |  | December 13, 2007 | 13,500 | 9 years.
| A32140036206xx | X |  |  | December 13, 2007 | 13,500 | 9 years.
Half ball housing (Fwd pintle bearing) | A32140042200xx | X |  | X | December 13, 2007 | 13,500 | 9 years.
| A32140042202xx | X |  | X | December 13, 2007 | 13,500 | 9 years.
| A32140068002xx | X |  |  | December 13, 2007 | 13,500 | 9 years.
| A32140068004xx | X |  |  | December 13, 2007 | 13,500 | 9 years.
| A32140069002xx | X |  | X | December 13, 2007 | 13,500 | 9 years.
| A32140069004xx | X |  | X | December 13, 2007 | 13,500 | 9 years.
Ball (Fwd pintle pin) | A32140012202xx | X |  |  | December 13, 2007 | 13,500 | 9 years.
| A32140043202xx | X |  | X | December 13, 2007 | 13,500 | 9 years.
Pin (Multiple link/Frame 50) | A53833451200xx | X |  |  | December 13, 2007 | 13,500 | 9 years..
| A53833451206xx | X |  |  | December 13, 2007 | 13,500 | 9 years.
| A53834451200xx | X |  |  | December 13, 2007 | 13,500 | 9 years.
| A53834451202xx | X |  | X | April 25, 2007 | 13,500 | 9 years.
Pin (Drop link/Frame 50) | A53811122200xx |  | X |  | April 25, 2007 | 18,000 | 9 years.
MLG Barrel Assembly
Upper torque link pin nut | 00-200-402 | X |  |  | December 13, 2007 | N/A | 30 months.
| SL40089 | X |  |  | December 13, 2007 | N/A | 30 months.
| SL40089P | X |  |  | December 13, 2007 | N/A | 30 months.
| SL40123 | X |  |  | December 13, 2007 | N/A | 30 months.
| SL40123P | X | X | X | April 25, 2007 | N/A | 30 months.
Torque link medium pin nut | 00-200-358 | X |  |  | December 13, 2007 | N/A | 30 months.
| SL40114P | X | X |  | April 25, 2007 | N/A | 30 months.
| SL40132 | X |  |  | December 13, 2007 | N/A | 30 months.
| SL40132P | X |  | X | April 25, 2007 | N/A | 30 months.
Attaching fitting pin | C62311-1 | X |  |  | December 13, 2007 | 13,500 | 9 years.
| C62311-20 | X |  | X | April 25, 2007 | 13,500 | 9 years.
Pin (Connecting rod/Upper rod) | C65815 | X |  |  | December 13, 2007 | 13,500 | 9 years.
| C65815-1 | X |  |  | December 13, 2007 | 13,500 | 9 years.
| C65815-20 | X |  |  | December 13, 2007 | 13,500 | 9 years.
| C66472 | X |  |  | December 13, 2007 | 13,500 | 9 years.
| C66472-1 | X |  |  | December 13, 2007 | 13,500 | 9 years.
| C66472-20 | X |  | X | April 25, 2007 | 13,500 | 9 years.
| D52751 |  | X |  | April 25, 2007 | 18,000 | 9 years.
MLG Shock Absorber Assembly
Lower torque link pin nut | 00-200-402 | X |  |  | December 13, 2007 | N/A | 30 months.
| SL40089 | X |  |  | December 13, 2007 | N/A | 30 months.
| SL40089P | X |  |  | December 13, 2007 | N/A | 30 months.
| SL40123 | X |  |  | December 13, 2007 | N/A | 30 months.
| SL40123P | X | X | X | April 25, 2007 | N/A | 30 months.
Bogie beam pivot pin nut | SL40054 | X |  |  | December 13, 2007 | at next removal/installation.1 2
| SL40054P | X |  | X | April 25, 2007 | at next removal/installation.1 2
| SL40413P |  | X |  | April 25, 2007 | at next removal/installation.1 2
MLG Lock Link Assembly
Lock link medium pin | C61485-1 | X |  |  | December 13, 2007 | N/A | 30 months.
| C61485-20 | X |  | X | April 25, 2007 | N/A | 30 months.
NOSE LANDING GEAR
Pintle pin | A32210079200xx | X | X | X | April 25, 2007 | 13,500 | 9 years.
NLG Telescopic Strut Assembly
Nut (Cylinder/Locking cylinder) | C61375 | X | X |  | April 25, 2007 | 13,500 | 9 years.
| D55955 | X | X | X | April 25, 2007 | 13,500 | 9 years.
Locking sleeve | C61389 | X | X |  | December 13, 2007 | 13,200 | 9 years.
| C61389-1 | X | X | X | April 25, 2007 | 13,500 | 9 years.
NLG Barrel Assembly
Pin (Clevis/Telescopic strut) | C62231-1 | X |  |  | December 13, 2007 | 13,200 | 9 years.
| C62231-2 | X |  |  | December 13, 2007 | 13,200 | 9 years.
| C62231-20 | X | X | X | April 25, 2007 | 13,500 | 9 years.
| D56530 | X | X | X | April 25, 2007 | 13,500 | 9 years.
Lower pin (Link/Clevis) | C62268-1 | X |  |  | December 13, 2007 | 13,200 | 9 years.
| C62268-2 | X |  |  | December 13, 2007 | 13,200 | 9 years.
| C62268-20 | X | X | X | April 25, 2007 | 13,500 | 9 years.
Link (Clevis/Barrel) | C62230-1 | X | X | X | April 25, 2007 | 13,500 | 9 years.
| D56526 | X | X | X | April 25, 2007 | 13,500 | 9 years.
Upper pin (Link/Barrel) | C62267-1 | X |  |  | December 13, 2007 | 13,200 | 9 years.
| C62267-2 | X |  |  | December 13, 2007 | 13,200 | 9 years.
| C62267-20 | X | X | X | April 25, 2007 | 13,500 | 9 years.
End fitting pin nut | D68062 | X | X | X | December 13, 2007 | at next removal/installation.²
| MS17825-6 | X | X | X | December 13, 2007 | at next removal/installation.²
End fitting pin | AN6-17 | X | X | X | December 13, 2007 | at next removal/installation.²
| D61183 | X | X | X | December 13, 2007 | at next removal/installation.²
| D68063 | X | X | X | December 13, 2007 | at next removal/installation.²
| NAS1306-22D | X | X | X | December 13, 2007 | at next removal/installation.²
End fitting | C62032 | X | X | X | April 25, 2007 | 13,500 | 9 years.
| C62032-1 | X | X | X | April 25, 2007 | 13,500 | 9 years.
Rack | C61453 | X |  |  | December 13, 2007 | 13,200 | 9 years.
| C61453-1 | X | X | X | April 25, 2007 | 13,500 | 9 years.
| C61453-20 | X | X | X | April 25, 2007 | 13,500 | 9 years.
| C61453-40 | X | X | X | April 25, 2007 | 13,500 | 9 years.
| C61453-41 | X | X | X | April 25, 2007 | 13,500 | 9 years.
Torque link pin (Upper & Lower) | C62223-1 | X |  |  | December 13, 2007 | 13,200 | 9 years.
| C62223-20 | X | X | X | April 25, 2007 | 13,500 | 9 years.
Torque link medium pin nut | SL40110P | X | X | X | April 25, 2007 | N/A | 30 months.
NLG Shock Absorber Assembly
Wheel axle nut | C62879 | X | X | X | April 25, 2007 | 4,000 | 24 months.
Upper cam dowel | C62270 | X | X | X | December 13, 2007 | at next removal/installation.
Upper cam | C62034-1 | X | X | X | April 25, 2007 | 13,500 | 9 years.
Lower cam | C62035 | X | X | X | April 25, 2007 | 13,500 | 9 years.
Restrictor | C62036 | X |  |  | December 13, 2007 | 13,200 | 9 years.
| C62036-1 | X |  |  | December 13, 2007 | 13,200 | 9 years.
| C62036-2 | X |  |  | December 13, 2007 | 13,200 | 9 years.
| C67863 | X |  |  | December 13, 2007 | 13,200 | 9 years.
| C67863-1 | X | X | X | April 25, 2007 | 13,500 | 9 years.
| C67863-2 | X | X | X | April 25, 2007 | 13,500 | 9 years.
| C67863-3 | X |  |  | December 13, 2007 | 13,500 | 9 years.
| C67863-4 | X | X | X | April 25, 2007 | 13,500 | 9 years.
Lower cam dowel | C62866 | X | X | X | December 13, 2007 | at next removal/installation.²
Nut (S/A/Barrel) | C64040 | X |  |  | December 13, 2007 | at next removal/installation.1 2
| C64040-1 | X | X | X | December 13, 2007 | at next removal/installation.1 2
¹ When the nut is temporarily removed and reinstalled for the purpose of performing maintenance outside a workshop, no replacement is required provided the nut's removal and reinstallation are performed on the same assembly and neither the assembly nor the nut accumulates time in service during the period between the removal and reinstallation.
² If the removal/installation was done after the start date, but before the effective date of this AD, the compliance time is within 3 months. after October 27, 2009 (the effective date of AD 2009-18-15, Amendment 39-16011 (74 FR 48143, September 22, 2009)).

(j) New Requirements of This AD: Maintenance Program Revision

Within 3 months after the effective date of this AD: Revise the maintenance or inspection program, as applicable, to incorporate the applicable limitation, replacement, or inspection specified in paragraph (j)(1), (j)(2), or (j)(3) of this AD, as applicable. Doing any task required by this paragraph terminates the corresponding task required by paragraph (g), (h), and (i) of this AD.

(1) For Model A300 series airplanes: Incorporate “Sub-part 1-2: Life Limits,” and “Sub-part 1-3: Demonstrated Fatigue Lives” of Part 1, “Safe Life Airworthiness Limitation Items,” Revision 01, dated September 5, 2013, of the Airbus A300 ALS.

(2) For Model A300 B4-600, B4-600R, and F4-600R series airplanes, and Model A300 C4 605R Variant F airplanes (collectively called Model A300-600 series airplanes): Incorporate “Sub-part 1-2: Life Limits,” and “Sub-part 1-3: Demonstrated Fatigue Lives” of Part 1, “Safe Life Airworthiness Limitation Items,” Revision 01, dated September 5, 2013, of the Airbus A300-600 ALS.

(3) For Model A310 series airplanes: Incorporate “Sub-part 1-2: Life Limits,” and “Sub-part 1-3: Demonstrated Fatigue Lives” of Part 1, “Safe Life Airworthiness Limitation Items,” dated Revision 01, September 5, 2013, of the Airbus A310 ALS.

(k) New Limitation: No Alternative Actions or Intervals

After accomplishment of the revision required by paragraph (j) of this AD, no alternative actions (e.g., inspections) or intervals may be used unless the actions or intervals are approved as an alternative method of compliance (AMOC) in accordance with the procedures specified in paragraph (l) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

(1) Refer to Mandatory Continuing Airworthiness Information (MCAI) EASA Airworthiness Directive 2013-0248, dated October 14, 2013, for related information. This MCAI may be found in the AD docket on the Internet at http://www.regulations.gov by searching for and locating Docket No. FAA-2015-2461.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on June 25, 2015.
Jeffrey E. Duven,
Manager, Transport Airplane Directorate, Aircraft Certification Service.

[FR Doc. 2015-17201 Filed 7-13-15; 8:45 am]

BILLING CODE 4910-13-P